DEPARTMENT OF HEALTH AND HUMAN SERVICES

Substance Abuse and Mental Health Services Administration

Current List of HHS-Certified Laboratories and Instrumented Initial Testing Facilities Which Meet Minimum Standards To Engage in Urine Drug Testing for Federal Agencies

AGENCY: Substance Abuse and Mental Health Services Administration, HHS.

ACTION: Notice.

SUMMARY: The Department of Health and Human Services (HHS) notifies federal agencies of the laboratories and Instrumented Initial Testing Facilities (IITF) currently certified to meet the standards of the Mandatory Guidelines for Federal Workplace Drug Testing Programs (Mandatory Guidelines). The Mandatory Guidelines were first published in the Federal Register on April 11, 1988 (53 FR 11970), and subsequently revised in the Federal Register on June 9, 1994 (59 FR 29908); September 30, 1997 (62 FR 51118); April 13, 2004 (69 FR 19644); November 25, 2008 (73 FR 71858); December 10, 2008 (73 FR 75122); and on April 30, 2010 (75 FR 22809).

A notice listing all currently HHS-certified laboratories and IITFs is published in the Federal Register during the first week of each month. If any laboratory or IITF certification is suspended or revoked, the laboratory or IITF will be omitted from subsequent lists until such time as it is restored to full certification under the Mandatory Guidelines.

If any laboratory or IITF has withdrawn from the HHS National Laboratory Certification Program (NLCP) during the past month, it will be listed at the end and will be omitted from the monthly listing thereafter.

This notice is also available on the Internet at http://www.samhsa.gov/workplace.

FOR FURTHER INFORMATION CONTACT: Giselle Hersh, Division of Workplace Programs, SAMHSA/CSAP, Room 7-1051, One Choke Cherry Road, Rockville, Maryland 20857; 240-276-2600 (voice), 240-276-2610 (fax).

SUPPLEMENTARY INFORMATION: The Mandatory Guidelines were initially developed in accordance with Executive Order 12564 and section 503 of Pub. L. 100-71. The “Mandatory Guidelines for Federal Workplace Drug Testing Programs,” as amended in the revisions listed above, requires strict standards that laboratories and IITFs must meet in order to conduct drug and specimen validity tests on urine specimens for federal agencies.

To become certified, an applicant laboratory or IITF must undergo three rounds of performance testing plus an on-site inspection. To maintain that certification, a laboratory or IITF must participate in a quarterly performance testing program plus undergo periodic, on-site inspections.

Laboratories and IITFs in the applicant stage of certification are not to be considered as meeting the minimum requirements described in the HHS Mandatory Guidelines. A HHS-certified laboratory or IITF must have its letter of certification from HHS/SAMHSA (formerly: HHS/NIDA), which attests that it has met minimum standards.

In accordance with the Mandatory Guidelines dated November 25, 2008 (73 FR 71858), the following HHS-certified laboratories and IITFs meet the minimum standards to conduct drug and specimen validity tests on urine specimens:

HHS-Certified Instrumented Initial Testing Facilities

Dynacare

6628 50th Street NW

Edmonton, AB Canada T6B 2N7

780-784-1190

(Formerly: Gamma-Dynacare Medical Laboratories)

HHS-Certified Laboratories

ACM Medical Laboratory, Inc.

160 Elmgrove Park

Rochester, NY 14624

585-429-2264

Aegis Analytical Laboratories, Inc.

345 Hill Ave.

Nashville, TN 37210

615-255-2400

(Formerly: Aegis Sciences Corporation, Aegis Analytical Laboratories, Inc., Aegis Analytical Laboratories)

Alere Toxicology Services

1111 Newton St.

Gretna, LA 70053

504-361-8989/800-433-3823

(Formerly: Kroll Laboratory Specialists, Inc., Laboratory Specialists, Inc.)

Alere Toxicology Services

450 Southlake Blvd.

Richmond, VA 23236

804-378-9130

(Formerly: Kroll Laboratory Specialists, Inc., Scientific Testing Laboratories, Inc.; Kroll Scientific Testing Laboratories, Inc.)

Baptist Medical Center-Toxicology Laboratory

11401 I-30

Little Rock, AR 72209-7056

501-202-2783

(Formerly: Forensic Toxicology Laboratory Baptist Medical Center)

Clinical Reference Lab

8433 Quivira Road

Lenexa, KS 66215-2802

800-445-6917

DrugScan, Inc.

200 Precision Road, Suite 200

Horsham, PA 19044

800-235-4890

Dynacare*

245 Pall Mall Street

London, ONT, Canada N6A 1P4

519-679-1630

(Formerly: Gamma-Dynacare Medical Laboratories)

ElSohly Laboratories, Inc.

5 Industrial Park Drive

Oxford, MS 38655

662-236-2609

Fortes Laboratories, Inc.

25749 SW Canyon Creek Road, Suite 600

Wilsonville, OR 97070

503-486-1023

Laboratory Corporation of America Holdings

7207 N. Gessner Road

Houston, TX 77040

713-856-8288/800-800-2387

Laboratory Corporation of America Holdings

69 First Ave.

Raritan, NJ 08869

908-526-2400/800-437-4986

(Formerly: Roche Biomedical Laboratories, Inc.)

Laboratory Corporation of America Holdings

1904 Alexander Drive

Research Triangle Park, NC 27709

919-572-6900/800-833-3984

(Formerly: LabCorp Occupational Testing Services, Inc., CompuChem Laboratories, Inc.; CompuChem Laboratories, Inc., A Subsidiary of Roche Biomedical Laboratory; Roche CompuChem Laboratories, Inc., A Member of the Roche Group)

Laboratory Corporation of America Holdings

1120 Main Street

Southaven, MS 38671

866-827-8042/800-233-6339

(Formerly: LabCorp Occupational Testing Services, Inc.; MedExpress/National Laboratory Center)

LabOne, Inc. d/b/a Quest Diagnostics

10101 Renner Blvd.

Lenexa, KS 66219

913-888-3927/800-873-8845

(Formerly: Quest Diagnostics Incorporated; LabOne, Inc.; Center for Laboratory Services, a Division of LabOne, Inc.)

MedTox Laboratories, Inc.

402 W. County Road D

St. Paul, MN 55112

651-636-7466/800-832-3244

MetroLab-Legacy Laboratory Services

1225 NE 2nd Ave.

Portland, OR 97232

503-413-5295/800-950-5295

Minneapolis Veterans Affairs Medical Center

Forensic Toxicology Laboratory

1 Veterans Drive

Minneapolis, MN 55417

612-725-2088

Testing for Veterans Affairs (VA) Employees Only

National Toxicology Laboratories, Inc.

1100 California Ave.

Bakersfield, CA 93304

661-322-4250/800-350-3515

One Source Toxicology Laboratory, Inc.

1213 Genoa-Red Bluff

Pasadena, TX 77504

888-747-3774

(Formerly: University of Texas Medical Branch, Clinical Chemistry Division; UTMB Pathology-Toxicology Laboratory)

Pacific Toxicology Laboratories

9348 DeSoto Ave.

Chatsworth, CA 91311

800-328-6942

(Formerly: Centinela Hospital Airport Toxicology Laboratory)

Pathology Associates Medical Laboratories

110 West Cliff Dr.

Spokane, WA 99204

509-755-8991/800-541-7891x7

Phamatech, Inc.

15175 Innovation Drive

San Diego, CA 92128

888-635-5840

Quest Diagnostics Incorporated

1777 Montreal Circle

Tucker, GA 30084

800-729-6432

(Formerly: SmithKline Beecham Clinical Laboratories; SmithKline Bio-Science Laboratories)

Quest Diagnostics Incorporated

400 Egypt Road

Norristown, PA 19403

610-631-4600/877-642-2216

(Formerly: SmithKline Beecham Clinical Laboratories; SmithKline Bio-Science Laboratories)

Quest Diagnostics Incorporated

8401 Fallbrook Ave.

West Hills, CA 91304

818-737-6370

(Formerly: SmithKline Beecham Clinical Laboratories)

Redwood Toxicology Laboratory

3700650 Westwind Blvd.

Santa Rosa, CA 95403

800-255-2159

Southwest Laboratories

4625 E. Cotton Center Boulevard

Suite 177

Phoenix, AZ 85040

602-438-8507/800-279-0027

STERLING Reference Laboratories

2617 East L Street

Tacoma, Washington 98421

800-442-0438

US Army Forensic Toxicology Drug Testing Laboratory

2490 Wilson St.

Fort George G. Meade, MD 20755-5235

301-677-7085

Testing for Department of Defense (DoD) Employees Only

*The Standards Council of Canada (SCC) voted to end its Laboratory Accreditation Program for Substance Abuse (LAPSA) effective May 12, 1998. Laboratories certified through that program were accredited to conduct forensic urine drug testing as required by U.S. Department of Transportation (DOT) regulations. As of that date, the certification of those accredited Canadian laboratories will continue under DOT authority. The responsibility for conducting quarterly performance testing plus periodic on-site inspections of those LAPSA-accredited laboratories was transferred to the U.S. HHS, with the HHS' NLCP contractor continuing to have an active role in the performance testing and laboratory inspection processes. Other Canadian laboratories wishing to be considered for the NLCP may apply directly to the NLCP contractor just as U.S. laboratories do.

Upon finding a Canadian laboratory to be qualified, HHS will recommend that DOT certify the laboratory (Federal Register, July 16, 1996) as meeting the minimum standards of the Mandatory Guidelines published in the Federal Register on April 30, 2010 (75 FR 22809). After receiving DOT certification, the laboratory will be included in the monthly list of HHS-certified laboratories and participate in the NLCP certification maintenance program.

Summer King,
Statistician.

[FR Doc. 2015-30433 Filed 11-30-15; 8:45 am]

BILLING CODE 4160-20-P